DEPARTMENT OF ENERGY

Federal Energy Regulatory Commission

[Docket No. EL00-103-000]

Morgan Stanley Capital Group Inc., Complainant, v. New York Independent System Operator, Respondent; Notice of Filing

August 24, 2000.

Take notice that on August 23, 2000, Morgan Stanley Capital Group Inc. (MSCG), tendered for filing a complaint pursuant to section 206 of the Federal Power Act against the New York Independent System Operator (NYISO) requesting that the Commission order NYISO immediately to limit the two- and five-year Transmission Congestion Contracts (TCC) products it intended to offer in its Autumn TCC Auction, beginning September 1, 2000, to no more than six-month terms until market flaws and the transitional, uncertain and unstable nature of the NYISO market have been addressed. MSCG alleges such long-term TCC products offered at this time will serve only to exacerbate problems caused by the existing software and market flaws. Accordingly, MSCG requests fast track processing of its complaint by the Commission.

Copies of the filing were served upon the NYISO and other interested parties.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 5, 2000. Protests will be considered by the Commission to determine the appropriate action to be taken, but will not serve to make protestants parties of the proceedings. Any person wishing to become a party must file a motion to intervene. Copies of this filing are on file with the Commission and are available for public inspection. This filing may also be viewed on the Internet at http://www.ferc.fed.us/online/rims.htm (call 202-208-2222 for assistance). Answers to the complaint shall also be due on or before September 5, 2000.

Linwood A. Watson, Jr.,
Acting Secretary.

[FR Doc. 00-22150 Filed 8-29-00; 8:45 am]

BILLING CODE 6717-01-M